DEPARTMENT OF HEALTH AND HUMAN SERVICES

Centers for Disease Control and Prevention (CDC)

[60Day-15-14APJ]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Using Rapid Assessment Methods to Understand Issues in HIV Prevention, Care and Treatment in the United States—New—National Center for HIV/AIDS, Viral Hepatitis, STD, and TB Prevention (NCHHSTP), Centers for Disease Control and Prevention (CDC).

Background and Brief Description

The Centers for Disease Control and Prevention requests approval for a 3-year clearance to collect data using rapid qualitative inquiries to understand issues related to HIV prevention, care, and treatment in the United States. Rapid inquiries are concentrated data collection and iterative data analytic efforts focused on timely and relevant responses to urgent issues and research questions. Although we will collect the majority of data using qualitative methods, many studies covered under this generic information collection, will involve a mixed methods approach for data collection.

The rapid inquiries will include multiple well-established qualitative methodologies, which may include but not be limited to in-depth individual interviews, focus groups, direct observations, case studies, document reviews, or brief quantitative surveys assessing demographics, behaviors, attitudes, intentions, beliefs, or other attributes of the respondents. In some assessments, additional contextual information may be collected, such as information about the respondents' community, workplaces, or organizations and places where they interact. CDC expects to qualitative data from approximately 1,800 respondents, assuming three research studies per year with each research study collecting data from 200 respondents.

For all proposed studies under this generic information collection, our efforts are expected to provide insight regarding a wide array of HIV-related programs designed for various populations throughout the United States, including but not limited to: Persons living with HIV/AIDS (PLWH); persons at elevated risk for acquiring new HIV infection or transmitting existing HIV infection to others; clinicians or other HIV care providers; men who have sex with men (MSM); transgender persons; injection and non-injection drug users; incarcerated populations or ex-prisoners; commercial sex workers; male and female heterosexual groups at high risk for HIV infection; and other providers and organizations (e.g., health departments, community-based organizations, public and private health clinics, advocacy groups, community groups, or other governmental and nongovernmental organizations) serving or otherwise interacting with persons at greatest need for HIV prevention, care, and treatment.

Recruitment procedures will vary slightly based on the target population and research design of each information collection submitted under this generic information collection. Partner organizations such as public and private health clinics and community-based organizations that serve the target populations in the respective geographic locations may be contacted for their assistance in recruitment of potential respondents. Respondents may be identified and selected as key informants and invited to participate by contractor staff members.

Sampling recruitment methods may include, but not be limited to: Use of social networking sites, the Internet, print marketing materials, and other methods to find and enroll respondents into the research study.

All data collection tools will be pre-tested and interviews conducted by trained personnel. The data collection will take place at a time and place that is convenient to the respondent. Locations will be private. Data collection may be audio-recorded and transcribed with the consent of the respondent.

We anticipate that each screener form will take 5 minutes to complete, contact information forms will take 1 minute to complete, and consent forms will take 5 minutes to complete. We anticipate 75 percent of those eligible to participate will enroll into study. Demographic surveys will take 15 minutes to complete. In-depth interviews, focus groups or other data collections are expected to take an average 45 minutes for healthcare providers and 60 minutes (1 hour) for general respondents to complete.

The data collections supported under this generic information collection will be used to provide insight regarding barriers and facilitators to HIV prevention, care, and treatment in the United States and territories, and thus suggest ways CDC might improve programmatic activities along the continuum of HIV prevention, treatment and care.

The total estimated annualized burden hours are 918. There are no costs to respondents other than their time.

Estimated Annualized Burden Hours
Type of respondent | Form name | Number of respondents | Number of responses per respondent | Average burden per response (in hours) | Total burden hours
General Public—Adults | Study Screener | 1,600 | 1 | 5/60 | 133
General Public—Adults | Contact Information Form | 600 | 1 | 1/60 | 10
General Public—Adults | Consent Form | 600 | 1 | 5/60 | 50
General Public—Adults | Demographic Survey | 500 | 1 | 15/60 | 125
General Public—Adults | Interview Guide | 500 | 1 | 1 | 500
General Public—Adults | Provider Demographic Survey | 100 | 1 | 15/60 | 25
General Public—Adults | Provider Interview Guide | 100 | 1 | 45/60 | 75
Total |  |  |  |  | 918

Leroy A. Richardson,
Chief, Information Collection Review Office, Office of Scientific Integrity, Office of the Associate Director for Science, Office of the Director, Centers for Disease Control and Prevention.

[FR Doc. 2015-03617 Filed 2-23-15; 8:45 am]

BILLING CODE 4163-18-P